DEPARTMENT OF THE TREASURY

Customs Service

Notice of Revocation of Customs Broker License

AGENCY: Customs Service, Department of the Treasury.

ACTION: General notice.

SUMMARY: Pursuant to section 641 of the Tariff Act of 1930 as amended (19 U.S.C. 1641) and the Customs Regulations [19 CFR 111.45(a)], the following Customs broker license is revoked by operation of law.

Name | License | Port
Sprint Custom House Brokerage, Inc. | 17315 | New York.

Dated: April 1, 2002.
Bonni G. Tischler,
Assistant Commissioner, Office of Field Operations.

[FR Doc. 02-8488 Filed 4-8-02; 8:45 am]

BILLING CODE 4820-02-P